JUDICIAL CONFERENCE OF THE UNITED STATES

Meeting of the Judicial Conference Committee on Rules of Practice and Procedure

AGENCY: Judicial Conference of the United States Advisory Committee on Rules of Evidence.

ACTION: Notice of open meeting.

SUMMARY: The Advisory Committee on Rules of Evidence will hold a one-day meeting. The meeting will be open to public observation but not participation.

DATES: May 3, 2013.

Time: 8:30 a.m. to 5:00 p.m.

ADDRESSES: University of Miami School of Law, 1311 Miller Road, Coral Gables, FL 33146.

FOR FURTHER INFORMATION CONTACT: Jonathan C. Rose, Secretary and Chief Rules Officer, Rules Committee Support Office, Administrative Office of the United States Courts, Washington, DC 20544, telephone (202) 502-1820.

Dated: December 3, 2012.
Jonathan C. Rose,
Secretary and Chief Rules Officer.

[FR Doc. 2012-29494 Filed 12-5-12; 8:45 am]

BILLING CODE 2210-55-P